DEPARTMENT OF THE TREASURY

Submission for OMB Review; Comment Request

May 1, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 9, 2003 to be assured of consideration.

Internal Revenue Service (IRS)

OMB Number: 1545-1364.

Regulation Project Number: INTL-372-88 Final and INTL-401-88 Final.

Type of Review: Extension.

Title: INTL-372-88 Final: Section 482 Cost Sharing Regulations; and

INTL-401-88 Final: Intercompany Transfer Pricing Regulations under section 482.

Description: INTL-372-88 Final: The information will be used to determine whether an entity is an eligible participant of a qualified cost sharing arrangement and whether each eligible participant is haring the costs and benefits of intangible development on an arm's length basis. INTL-401-88 Final: This document contains regulations relating to the pricing transfers of tangible property, intangible property, or services between related parties.

Respondents: Business or other for-profit.

Estimated Number of Respondents/Recordkeepers: 1,000.

Estimated Burden Hours Per Respondent/Recordkeeper: 7 hours, 51 minutes.

Frequency of Response: Annually.

Estimated Total Reporting/Recordkeeping Burden: 7,850 hours.

Clearance Officer: Glenn Kirkland (202) 622-3428, Internal Revenue Service, Room 6411-03, 1111 Constitution Avenue, NW., Washington, DC 20224.

OMB Reviewer: Joseph F. Lackey, Jr. (202) 395-7316, Office of Management and Budget, Room 10235, New Executive Office Building, Washington, DC 20503.

Lois K. Holland,
Departmental Reports Management Officer.

[FR Doc. 03-11468 Filed 5-7-03; 8:45 am]

BILLING CODE 4830-01-P